SMALL BUSINESS ADMINISTRATION

13 CFR Part 120

Business Loans

CFR Correction

In Title 13 of the Code of Federal Regulations, revised as of January 1, 2015, on page 307, in § 120.802, in the definition of Priority CDC, remove the first instance of “504” and add “504” before the word “program”.

[FR Doc. 2015-31739 Filed 12-17-15; 8:45 am]

BILLING CODE 1505-01-D